DEPARTMENT OF HEALTH AND HUMAN SERVICES

National Institutes of Health

Notice To Announce Request for Information on the Development of the National Institute of Dental and Craniofacial Research's Strategic Plan for Fiscal Years 2020-2025

AGENCY: National Institutes of Health, HHS.

ACTION: Notice.

SUMMARY: The National Institute of Dental and Craniofacial Research (NIDCR) is drafting its Strategic Plan for Fiscal Years (FY) 2020-2025 to help guide the research it supports over the next six years. NIDCR 2030 established five priority areas and accompanying goals, which we're now using to organize the 2020-2025 Strategic Plan. Through this Request for Information, NIDCR invites researchers in academia and industry, health care professionals, patient advocates and health advocacy organizations, scientific or professional organizations, Federal agencies, and other interested members of the public to provide feedback on NIDCR's next strategic plan.

DATES: The NIDCR's Request for Information is open for public comment for a period of 30 days. Comments must be received by August 15, 2019, to ensure consideration. After the public comment period has closed, the comments received by the NIDCR will be considered in a timely manner for the development of the FY 2020-2025 National Institute of Dental and Craniofacial Research's Strategic Plan.

ADDRESSES: Please visit our website to view the priority areas and provide your feedback electronically: https://www.nidcr.nih.gov/about-us/strategic-plan/2020-2025-nidcr-strategic-plan. Feedback can also be submitted via email (NIDCRstrategicPlan@nidcr.nih.gov).

FOR FURTHER INFORMATION CONTACT: D. Jonathan Horsford, Ph.D. Acting Director, Office of Science Policy and Analysis, National Institute of Dental and Craniofacial Research, NIH, 31 Center Drive, Suite 5B55, Bethesda, MD 20892. Email: Jonathan.Horsford@NIH.gov.

SUPPLEMENTARY INFORMATION: The National Institute of Dental and Craniofacial Research's (NIDCR) mission is to improve the health of the nation through investments in research focused on dental, oral, and craniofacial (DOC) diseases including caries, periodontal disease, cancers, orofacial pain, craniofacial disorders, salivary gland disorders, rare diseases, and oral manifestations of systemic diseases. In 2017, NIDCR launched NIDCR 2030, a visioning initiative where we imagined a future world in which DOC health and diseases are understood in the context of the whole body and research transforms how we promote health, treat disease, and overcome health disparities. To get us there, NIDCR requests your help in developing our 2020-2025 Strategic Plan.

Dated: July 9, 2019.
Martha J. Somerman,
Director, National Institute of Dental and Craniofacial Research, National Institutes of Health.

[FR Doc. 2019-15006 Filed 7-15-19; 8:45 am]

BILLING CODE 4140-01-P